SECURITIES AND EXCHANGE COMMISSION

[File No. 500-1]

Circadian, Inc., Clean Energy Combustion, Inc. (n/k/a Clean Energy Combustion Systems, Inc.), Collectible Concepts Group, Inc., Communitronics of America, Inc. (n/k/a RPM Advantage, Inc.), and ConSyGen, Inc., Order of Suspension of Trading

March 22, 2011.

It appears to the Securities and Exchange Commission that there is a lack of current and accurate information concerning the securities of Circadian, Inc. because it has not filed any periodic reports since the period ended September 30, 1995.

It appears to the Securities and Exchange Commission that there is a lack of current and accurate information concerning the securities of Clean Energy Combustion, Inc. (n/k/a Clean Energy Combustion Systems, Inc.) because it has not filed any periodic reports since the period ended September 30, 2004.

It appears to the Securities and Exchange Commission that there is a lack of current and accurate information concerning the securities of Collectible Concepts Group, Inc. because it has not filed any periodic reports since the period ended November 30, 2007.

It appears to the Securities and Exchange Commission that there is a lack of current and accurate information concerning the securities of Communitronics of America, Inc. (n/k/a RPM Advantage, Inc.) because it has not filed any periodic reports since the period ended June 30, 2006.

It appears to the Securities and Exchange Commission that there is a lack of current and accurate information concerning the securities of ConSyGen, Inc. because it has not filed any periodic reports since the period ended November 30, 2001.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on March 22, 2011, through 11:59 p.m. EDT on April 4, 2011.

By the Commission.
Jill M. Peterson,
Assistant Secretary.

[FR Doc. 2011-7069 Filed 3-22-11; 11:15 am]

BILLING CODE 8011-01-P